DEPARTMENT OF TRANSPORTATION

Pipeline and Hazardous Materials Safety Administration

[Docket No. PHMSA-2023-0078 (Notice No. 2023-15)]

Hazardous Materials: Information Collection Activities

AGENCY: Pipeline and Hazardous Materials Safety Administration (PHMSA), DOT.

ACTION: Notice and request for comments.

SUMMARY: In accordance with the Paperwork Reduction Act of 1995, PHMSA invites comments on an information collection pertaining to hazardous materials transportation for which PHMSA intends to request renewal from the Office of Management and Budget.

DATES: Interested persons are invited to submit comments on or before January 17, 2024.

ADDRESSES: Written comments and recommendations for this information collection should be sent within 30 days of publication of this notice to https://www.reginfo.gov/public/do/PRAMain.

Information collections can be found by selecting “Currently under 30-day Review—Open for Public Comments” or by using the search function.

We invite comments on: (1) whether this collection of information is necessary for the proper performance of the functions of the Department, including whether the information will have practical utility; (2) the accuracy of the Department's estimate of the burden of the information collections; (3) ways to enhance the quality, utility, and clarity of the information to be collected; and (4) ways to minimize the burden of the collection of information on respondents, including the use of automated collection techniques or other forms of information technology.

Docket: For access to the Dockets to read background documents or comments received, go to http://www.regulations.gov.

FOR FURTHER INFORMATION CONTACT: Steven Andrews or Nina Vore, Standards and Rulemaking Division, (202) 366-8553, Pipeline and Hazardous Materials Safety Administration, U.S. Department of Transportation, 1200 New Jersey Avenue SE, Washington, DC 20590-0001.

SUPPLEMENTARY INFORMATION: Section 1320.8(d), title 5, Code of Federal Regulations (CFR) requires PHMSA to provide interested members of the public and affected agencies an opportunity to comment on information collection and recordkeeping requests. This notice identifies information collection requests that PHMSA previously published on October 3, 2023,¹ in a 60-day Federal Register notice seeking comments and is now submitting to the Office of Management and Budget (OMB) for renewal and extension. It should be noted that the 60-day Federal Register notice also listed OMB Control Number 2137-0612 for “Hazardous Materials Security Plans.” Since the publication of the 60-day notice, PHMSA has submitted a package to OMB for the renewal of 2137-0612 “Hazardous Materials Security Plans” in association with the HM-264A Final Rule titled “Hazardous Materials: Suspension of HMR Amendments Authorizing Transportation of Liquefied Natural Gas by Rail” published on September 1, 2023 [88 FR 60356]. Therefore, PHMSA no longer is listing this OMB control number as a part of the current 30-day notice as it is no longer needed.

¹ https://www.federalregister.gov/documents/2023/10/03/2023-21870/hazardous-materials-information-collection-activities.

The following information is provided for the information collection titled “Generic Clearance for the Collection of Qualitative Feedback on Agency Service Delivery”: (1) title of the information collection, including former title if a change is being made; (2) OMB control number; (3) summary of the information collection activity; (4) description of affected public; (5) estimate of total annual reporting and recordkeeping burden; and (6) frequency of collection. PHMSA will request a 3-year term of approval for the information collection activity and will publish a notice in the Federal Register alerting the public upon OMB's approval. PHMSA requests comments on the following information collection:

Title: Generic Clearance for the Collection of Qualitative Feedback on Agency Service Delivery.

OMB Control Number: 2137-0640.

Summary: The information collection activity will garner qualitative customer and stakeholder feedback in an efficient, timely manner and in accordance with the Department's commitment to improving service delivery. Qualitative feedback is information that provides useful insights on perceptions and opinions, not statistical surveys that yield quantitative results that can be generalized to the population of study. This feedback will provide insight into customer or stakeholder perceptions, opinions, experiences and expectations, as well as an early warning of issues with service, or focus attention on areas where communication, training or changes in operations might improve delivery of products or services. These collections will allow for ongoing, collaborative, and actionable communications between PHMSA and its customers and stakeholders. It will also allow feedback to contribute directly to the improvement of program management. Feedback or information collected under this generic clearance will provide useful information, but it will not yield data that can be generalized to the overall population.

The Department will submit a collection for approval under this generic clearance if it meets the following conditions:

• The collections are voluntary.

• The collections are low-burden for respondents (based on considerations of total burden hours, total number of respondents, or burden-hours per respondent) and are low-cost for both the respondents and the Federal Government.

• The collections are non-controversial and do not raise issues of concern to other Federal agencies.

• Any collection is targeted to the solicitation of opinions from respondents who have experience with the program or may have experience with the program in the near future.

• Personally identifiable information (PII) is collected only to the extent necessary and is not retained.

• Information gathered is intended to be used only internally for general service improvement and program management purposes and is not intended for release outside of the Department (if released, the Department must indicate the qualitative nature of the information).

This type of generic clearance for qualitative information will not be used for quantitative information collections that are designed to yield reliably actionable results, such as monitoring trends over time or documenting program performance. Such data uses require more rigorous designs that address: the target population to which generalizations will be made, the sampling frame, the sample design (including stratification and clustering), the precision requirements or power calculations that justify the proposed sample size, the expected response rate, methods for assessing potential nonresponse bias, the protocols for data collection, and any testing procedures that were or will be undertaken prior to fielding the study. Depending on the degree of influence the results are likely to have, such collections may still be eligible for submission for other generic mechanisms that are designed to yield quantitative results.

Affected Public: Individuals and households, businesses and organizations, State, Local or Tribal Governments.

Annual Reporting and Recordkeeping Burden:

Number of Respondents: 6,000.

Total Annual Responses: 6,000.

Total Annual Burden Hours: 3,000.

Frequency of Collection: One-time requirement.

Issued in Washington, DC, on December 12, 2023, under authority delegated in 49 CFR 1.97.
T Glenn Foster,
Chief, Regulatory Review and Reinvention Branch, Office of Hazardous Materials Safety, Pipeline and Hazardous Materials Safety Administration.

[FR Doc. 2023-27719 Filed 12-15-23; 8:45 am]

BILLING CODE 4910-60-P